FEDERAL COMMUNICATIONS COMMISSION

[FRS 71961]

Radio Broadcasting Services; AM or FM Proposals To Change the Community of License

AGENCY: Federal Communications Commission.

ACTION: Notice.

DATES: The agency must receive comments on or before April 25, 2022.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: IGLESIA PENTECOSTAL VISPERA DEL FIN, KZGD(AM), Fac. ID No. 72475, From SALEM, OR, To HUBBARD, OR, File No. BP-20220117AAA; SSR COMMUNICATIONS, INC., KCAY(FM), Fac. ID No. 203590, From CALIENTE, NV, To DAMMERON VALLEY, UT, File No. 0000178430; JUAN CARLOS MATOS BARRETO, KEHD(FM), Fac. ID No. 762515, From BIG LAKE, TX, To MIDKIFF, TX, File No. 0000178378; ESTRELLA BROADCASTING LLC, KVRQ(FM), Fac. ID No. 198802, From MULESHOE, TX, To TEXICO, NM, File No. 0000179229; LAZER LICENSES, LLC, KXRS(FM), Fac. ID No. 36829, From HEMET, CA, To BEAUMONT, CA, File No. 0000178819; ESTRELLA BROADCASTING, LLC, NEW(FM), Fac. ID No. 762491, From OVERGAARD, AZ, To BLUE RIDGE, AZ, File No. 0000159314; FAMILY LIFE MINISTRIES, INC., WCOR-FM, Fac. ID No. 21197, From PORTVILLE, NY, To LEWIS RUN, PA, File No. 0000182214; EAST TENNESSEE RADIO GROUP III, L.P., WQMT(FM), Fac. ID No. 70782, From DECATUR, TN, To HOPEWELL, TN, File No. 0000180848; CALVARY CHAPEL OF RUSSELL, WTWT(FM), Fac. ID No. 172674, From BRADFORD, PA, To PORTVILLE, NY, File No. 0000182212; THE POWER FOUNDATION, WWQS(FM), Fac. ID No. 173912, From SPRING CITY, TN, To DECATUR, TN, File No. 0000180811; and RADIOACTIVE, LLC, WKFC(FM), Fac. ID No. 164241, From NORTH CORBIN, KY, To HUSTONVILLE, KY, File No. 0000145184. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2022-03842 Filed 2-22-22; 8:45 am]

BILLING CODE 6712-01-P